DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Iberville Parish, Louisiana, and Incorporated Areas
Docket No.: FEMA-B-1216
Mississippi River | Approximately 1.67 miles upstream of the White Castle-Carville Ferry | +38 | City of Plaquemine, Town of White Castle.
| Approximately 2 miles upstream of the White Castle-Carville Ferry | +38
| Approximately 0.75 mile downstream of the Bayou Plaquemine confluence | +42
| Approximately 0.70 mile upstream of the Bayou Plaquemine confluence | +42
* National Geodetic Vertical Datum.
+ North American Vertical Datum.
# Depth in feet above ground.
‸ Mean Sea Level, rounded to the nearest 0.1 meter.
ADDRESSES
City of Plaquemine
Maps are available for inspection at 58050 Meriam Street, Plaquemine, LA 70764.
Town of White Castle
Maps are available for inspection at 32535 Bowie Street, White Castle, LA 70788.
Yellowstone County, Montana, and Incorporated Areas
Docket No.: FEMA-B-1117
Cove Creek | Approximately 200 feet upstream of Rimrock Road | +3375 | City of Billings, Unincorporated Areas of Yellowstone County.
| Approximately 270 feet downstream of Molt Road | +3571
Cove Creek East Overflow | Approximately 25 feet upstream of Rimrock Road | +3370 | City of Billings, Unincorporated Areas of Yellowstone County.
| Approximately 1,700 feet upstream of Rimrock Road | +3382
Fivemile Creek | Downstream of Old Fivemile Creek Road | +3085 | City of Billings, Unincorporated Areas of Yellowstone County.
| Approximately 55 feet downstream of Alexander Road | +3225
Yellowstone River | Approximately 150 feet upstream of Musselshell Trail Road | +2728 | City of Billings, Unincorporated Areas of Yellowstone County.
| Approximately 545 upstream of U.S. Route 212 South | +3274
* National Geodetic Vertical Datum.
+ North American Vertical Datum.
# Depth in feet above ground.
‸ Mean Sea Level, rounded to the nearest 0.1 meter.
ADDRESSES
City of Billings
Maps are available for inspection at 510 North Broadway, 4th Floor, Billings, MT 59101.
Unincorporated Areas of Yellowstone County
Maps are available for inspection at 217 North 27th Street, Billings, MT 59101.

(Catalog of Federal Domestic Assistance No. 97.022, “Flood Insurance.”)

Dated: June 3, 2013.
Roy E. Wright,
Deputy Associate Administrator for Mitigation, Department of Homeland Security, Federal Emergency Management Agency.

[FR Doc. 2013-14294 Filed 6-14-13; 8:45 am]

BILLING CODE 9110-12-P